DEPARTMENT OF HEALTH AND HUMAN SERVICES

Health Resources and Services Administration

Agency Information Collection Activities: Proposed Collection: Public Comment Request; Forms for Use With Applications to the Maternal and Child Health Bureau and Bureau of Health Workforce Research and Training Grants

AGENCY: Health Resources and Services Administration (HRSA), Department of Health and Human Services.

ACTION: Notice.

SUMMARY: In compliance with the requirement for opportunity for public comment on proposed data collection projects (Section 3506(c)(2)(A) of the Paperwork Reduction Act of 1995), HRSA announces plans to submit an Information Collection Request (ICR), described below, to the Office of Management and Budget (OMB). Prior to submitting the ICR to OMB, HRSA seeks comments from the public regarding the burden estimate, below, or any other aspect of the ICR.

DATES: Comments on this ICR must be received no later than February 27, 2017.

ADDRESSES: Submit your comments to paperwork@hrsa.gov or mail the HRSA Information Collection Clearance Officer, Room 14N-39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Forms for Use with Applications to the Maternal and Child Health Bureau and Bureau of Health Workforce Research and Training Grants OMB No. 0906-xxxx—New

Abstract: Currently HRSA is cleared to use the National Institutes of Health's (NIH) Biographical Sketch and Public Health Service (PHS) Inclusion Enrollment forms (0925-0001) for HRSA's SF424 Research & Related (R&R) application package research grants. However, both of these documents contain NIH-specific references. To use the forms, HRSA plans to remove the NIH-specific references and obtain its own OMB control number for the collection of this information.

The current Statement of Appointment (form PHS-2271) is also tailored to NIH programs. HRSA plans to remove references to NIH and where appropriate replace them with references to HRSA for use in the SF424 R&R application package.

Need and Proposed Use of the Information: Currently, there are two Bureaus within HRSA, the Maternal and Child Health Bureau (MCHB) and the Bureau of Health Workforce (BHW), that use the Biographical Sketch. In addition to the Biographical Sketch, MCHB also uses the PHS Inclusion Enrollment form, and BHW uses the Statement of Appointment form as required elements of the SF424 Research & Related application package. These Bureaus plan to modify these forms in slightly different ways to meet the needs of their own research and training grant programs.

In MCHB's research grant programs, the modified Biographical Sketch form will be used by applicants to summarize the qualifications of key personnel on their proposed research team; the grant reviewers will use this information to assess the capabilities of the research team to carry out the research project. MCHB's modified PHS Inclusion Enrollment form will be used by applicants to summarize their expected population of research study participants at the time of submission of their proposal; it will also be used for Enrollment Reporting during the annual Noncompeting Continuation Award. Monitoring Inclusion Enrollment is one important component of ensuring statistically meaningful demographics (race, ethnicity, and gender) among research study participants in MCHB's research grant portfolio. MCHB does not use the Statement of Appointment form, as it does not pertain to the MCHB research program.

Similarly, in BHW the modified Biographical Sketch form will be used by applicants to summarize the qualifications of key personnel proposed as project staff; the grant reviewers will use this information to assess the capabilities of the applicant organization to carry out the proposed project. The modified Statement of Appointment form is used to document the appointment of individuals supported by the award to applicable institutional research and training programs. BHW does not use the PHS Inclusion Enrollment form, as it does not pertain to the BHW training and research programs.

Likely Respondents: Respondents are applicants to HRSA's research programs in MCHB and research and training programs in BHW.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Biographical Sketch for MCHB research grant applicants | 200 | 5 | 1000 | 2 | 2000
PHS Inclusion Enrollment form for MCHB research grant applications | 200 | 1 | 200 | .5 | 100
Biographical Sketch for BHW training and research grant applicants | 1000 | 5 | 5000 | 2 | 10,000
Statement of Appointment form for BHW training grantees | 800 | 7 | 5600 | .5 | 2,800
Total | 2200 |  | 11,800 |  | 14,900

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Jason E. Bennett,
Director, Division of the Executive Secretariat.

[FR Doc. 2016-31080 Filed 12-23-16; 8:45 am]

BILLING CODE 4165-15-P